DEPARTMENT OF COMMERCE

National Oceanic and Atmospheric Administration

50 CFR Parts 600 and 660

[Docket No. 020606142-2234-02; I.D. 041802F]

RIN 0648-AP39

Magnuson-Stevens Act Provisions; Fisheries Off West Coast States and in the Western Pacific; Pacific Coast Groundfish Fishery; Groundfish Fishery Management Measures; Correction

AGENCY: National Marine Fisheries Service (NMFS), National Oceanic and Atmospheric Administration (NOAA), Commerce.

ACTION: Correction to final rule.

SUMMARY: This document contains a correction to a final rule published on October 29, 2002. It removes an amendatory instruction that was inadvertently published in the October 29, 2002 document.

DATES: November 18, 2002.

SUPPLEMENTARY INFORMATION:

Background

On October 29, 2002, (67 FR 65902) NMFS published a final rule in the Federal Register to amend tier qualifications to include sablefish landings taken under the provisions of an exempted fishing permit (EFP) from 1984-1985 with setnet gear north of 38° N. lat. Setnet EFP landings will be added to the current pot (trap) and longline landings to qualify a sablefish-endorsed permit for its tier assignment. This rule is intended to recognize historical sablefish landings made by current primary season participants.

Correction

In the FR Doc. 02-27360 in the issue of Tuesday, October 29, 2002 (67 FR 65902) make the following correction:

1. On page 65906, in the third column, under instruction 7.(i), remove “ and (g)(2).”

Dated: November 12, 2002.
Rebecca Lent,
Deputy Assistant Administrator for Regulatory Programs, National Marine Fisheries Service.

[FR Doc. 02-29183 Filed 11-15-02; 8:45 am]

BILLING CODE 3510-22-S